DEPARTMENT OF COMMERCE

International Trade Administration

[A-201-802]

Gray Portland Cement and Clinker From Mexico: Notice of Extension of the Time Limit for the Preliminary Results of Antidumping Duty Administrative Review

AGENCY: Import Administration, International Trade Administration, Department of Commerce.

ACTION: Notice of extension of the time limit for the preliminary results of antidumping duty administrative review.

SUMMARY: The Department of Commerce is extending the time limit for the preliminary results of the administrative review of the antidumping duty order on gray portland cement and clinker from Mexico until June 14, 2004. This extension applies to the administrative review of two exporters, CEMEX, S.A. de C.V., and GCC Cemento, S.A. de C.V. The period of review is August 1, 2002, through July 31, 2003.

EFFECTIVE DATE: April 28, 2004.

FOR FURTHER INFORMATION CONTACT: Jeffrey Frank or Hermes Pinilla, AD/CVD Enforcement 3, Import Administration, International Trade Administration, U.S. Department of Commerce, 14th Street and Constitution Avenue, NW., Washington, DC 20230; telephone: (202) 482-0090 and (202) 482-3477, respectively.

Background

On September 30, 2003, the Department of Commerce (the Department) published in the Federal Register the Initiation of Antidumping and Countervailing Duty Administrative Reviews, Request for Revocation in Part and Deferral of Administrative Review (68 FR 56262) in which it initiated an administrative review of the antidumping duty order on gray portland cement and clinker from Mexico.

Extension of Time Limit for Preliminary Results

Section 751(a)(3)(A) of the Tariff Act of 1930, as amended (the Act), provides that the Department will issue the preliminary results of an administrative review of an antidumping duty order within 245 days after the last day of the anniversary month of the date of publication of the order. Currently, the due date for the preliminary results is May 2, 2004. The Act also provides that the Department may extend the 245-day period up to 365 days if it determines that it is not practicable to complete the review within the foregoing time period.

This review involves complex factual and legal issues regarding sales of a new type of cement and the reporting of downstream sales, and the Department needs additional time to consider these issues. For these reasons, the Department has determined that it is not practicable to complete the preliminary results within the time limit mandated by section 751(a)(3)(A) of the Act. Therefore, in accordance with that section, the Department is extending the time limit for completion of the preliminary results by 43 days. The preliminary results of review are now due no later than June 14, 2004. The Department intends to issue the final results of review 120 days after the publication of the preliminary results. This extension of the time limit is in accordance with section 751(a)(3)(A) of the Act.

Dated: April 20, 2004.
Jeffrey May,
Deputy Assistant Secretary for Import Administration.

[FR Doc. 04-9643 Filed 4-27-04; 8:45 am]

BILLING CODE 3510-DS-P